DEPARTMENT OF ENERGY

Federal Energy Regulatory Commission

[Docket No. CP03-87-001]

Overthrust Pipeline Company; Notice of Tariff Filing

June 10, 2003.

Take notice that on June 5, 2003, Overthrust Pipeline Company (Overthrust) tendered for filing as part of its FERC Gas Tariff, Original Volume No. 1, Fifth Revised Sheet No. 1, with an effective date of January 1, 2003.

Overthrust states that this filing is being made in compliance with the Commission's Order issued May 20, 2003 (May 20 Order), in Docket No. CP03-87-000.

Overthrust states that in the May 20 Order, the Commission granted Overthrust's request to abandon service and cancel its FERC Gas Tariff, Original Volume No. 1 effective January 1, 2003. Overthrust further states that the May 20 Order was conditioned upon Overthrust filing tariff sheets in compliance with part 154 of the Commission's Regulations within 15 days of the May 20 Order.

Overthrust states that a copy of this filing has been served upon its customers and the Public Service Commissions of Utah and Wyoming.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 17, 2003.

Magalie R. Salas,
Secretary.

[FR Doc. 03-15172 Filed 6-16-03; 8:45 am]

BILLING CODE 6717-01-P